DEPARTMENT OF COMMERCE

National Oceanic and Atmospheric Administration

50 CFR Part 648

[Docket No. 190214116-9116-01]

RIN 0648-BI69

Fisheries of the Northeastern United States; Northeast Multispecies Fishery; Fishing Year 2019 Recreational Management Measures

Correction

In proposed rule document 2019-09685 beginning on page 20609 in the issue of May 10, 2019, make the following change:

On page 20610 in Table 2, in the fourth line, in the third column “GOM Haddock-Minimum Size”, “15″ (31.1 cm)” should read “17″ (43.2 cm)”

[FR Doc. C1-2019-09685 Filed 5-15-19; 8:45 am]

BILLING CODE 1301-00-D